NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 6, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul Wester, Director, Life Cycle Management Division (NWML), National Archives and Records Administration, 8601 Adelphi Road, College Park, MD 20740-6001. Telephone: 301-837-1505. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Defense Information Systems Agency (N1-371-02-8, 7 items, 7 temporary items). Records relating to legal advice and opinions, litigation proceedings, and nondisclosure agreements with private industry. Also included are electronic copies of documents created using electronic mail and word processing.

2. Department of Defense, Defense Logistics Agency (N1-361-03-1, 1 item, 1 temporary item). Electronic records maintained in a system that is used to track and control requests for facility and administrative support services and products.

3. Department of Energy, Bonneville Power Administration (N1-305-03-1, 34 items, 34 temporary items). Records relating to the management of power assets of the Federal Columbia River Power System. Included are such files as long-term direction studies, risk management assessments, budget analyses, investment strategies, meeting minutes, and research and development studies. Also included are electronic copies of documents created using electronic mail and word processing. This schedule authorizes the agency to apply the proposed disposition instructions to any recordkeeping medium.

4. Department of Justice, Drug Enforcement Administration (N1-170-03-1, 3 items, 3 temporary items). Inputs, electronic data, and documentation associated with an electronic system pertaining to the use of confidential sources.

5. Department of Justice, Criminal Division (N1-60-03-1, 8 items, 6 temporary items). Records of the Office of Enforcement Operations' Witness Immunity Unit. Included are such records as attorney search warrants and subpoenas, multi-district agreement requests, and pre-trial diversions. Also included are electronic copies of documents created using word processing and electronic mail. Recordkeeping copies of files relating to the prosecution of previously immunized witnesses and Dual Prosecution Policy Case Files are proposed as permanent.

6. Federal Emergency Management Agency, Response and Recovery Directorate (N1-311-01-5, 2 items, 1 temporary item). Electronic copies of documents created using word processing and electronic mail relating to the agency's role as chair and coordinator of the Emergency Services Sector working group of the President's Council on Y2K Conversion. Recordkeeping copies of these files are proposed for permanent retention.

7. Federal Energy Regulatory Commission, Office of External Affairs (N1-138-02-2, 3 items, 3 temporary items). Annual reports of Freedom of Information Act activities that are submitted directly to the Department of Justice. Also included are electronic copies of documents created using electronic mail and word processing.

8. Federal Trade Commission, Office of Information Management and Dissemination (N1-122-96-1, 4 items, 4 temporary items). Investigative case files, background materials, and electronic copies of records created using electronic mail and word processing.

9. Federal Trade Commission, Information and Technology Management Office (N1-122-96-3, 4 items, 4 temporary items). Consent case files, including both public and non-public files, and electronic copies of records created using electronic mail and word processing.

10. Federal Trade Commission, Information and Technology Management Office (N1-122-96-4, 6 items, 5 temporary items). Docket files, including non-public and in camera files, procedural materials not entered into evidence, and electronic copies of records created using electronic mail and word processing. Proposed for permanent retention are recordkeeping copies of public documents that are made part of the record of each proceeding.

11. Millennial Housing Commission, Agency-wide (N1-220-02-24, 7 items, 2 temporary items). Electronic copies of records created using electronic mail and word processing pertaining to agency activities. Recordkeeping copies of such files as surveys, reports, hearing transcripts, correspondence, meeting minutes, and the commission's web site are proposed for permanent retention.

12. National Commission on Library and Information Science, Library Statistics Program (N1-220-02-26, 3 items, 2 temporary items). Electronic copies of records created using electronic mail and word processing that relate to the commission's Academic Library Survey. Recordkeeping copies of these files are proposed for permanent retention.

13. National Commission on Library and Information Science, Library Statistics Program (N1-220-02-27, 3 items, 2 temporary items). Electronic copies of records created using electronic mail and word processing that relate to the commission's State Library Agency Survey. Recordkeeping copies of these files are proposed for permanent retention.

14. National Commission on Library and Information Science, Library Statistics Program (N1-220-02-28, 3 items, 2 temporary items). Electronic copies of records created using electronic mail and word processing that relate to the commission's Library Cooperatives Survey. Recordkeeping copies of these files are proposed for permanent retention.

15. National Commission on Library and Information Science, Library Statistics Program (N1-220-02-30, 3 items, 2 temporary items). Electronic copies of records created using electronic mail and word processing that relate to the commission's School Library Media Center Survey. Recordkeeping copies of these files are proposed for permanent retention.

16. National Commission on Library and Information Science, Library Statistics Program (N1-220-02-31, 3 items, 2 temporary items). Electronic copies of records created using electronic mail and word processing that relate to the commission's Public Library Data Survey. Recordkeeping copies of these files are proposed for permanent retention.

17. National Commission on Library and Information Science, Library Statistics Program (N1-220-02-32, 3 items, 2 temporary items). Electronic copies of records created using electronic mail and word processing that relate to general program matters. Recordkeeping copies of these files are proposed for permanent retention.

18. Securities and Exchange Commission, Office of Filings and Information Services (N1-266-02-1, 3 items, 3 temporary items). Inputs and master files of the Complaint Handling, Assignment, Response, and Tracking System, an electronic imaging system used to support and facilitate the tracking and reporting of complaints from investors. The system includes such data as investors' names and contact information and details of how, why, and when a person was defrauded or encountered problems. Also included are paper documents that have not been imaged. Significant accusations of securities violations that warrant investigation become part of an investigative case file; recordkeeping copies of significant cases were previously approved for permanent retention.

19. Social Security Administration, Deputy Commissioner for Finance, Assessment, and Management (N1-47-01-1, 6 items, 6 temporary items). Inputs, master files, system backups, documentation, and outputs for the Talking and Listening to Customers Electronic System, which is used for suggestions, compliments, and complaints received from agency employees and the public. Also included are electronic copies of records created using electronic mail and word processing.

Dated: November 14, 2002.
Michael J. Kurtz,
Assistant Archivist for Record Services—Washington, DC.

[FR Doc. 02-29518 Filed 11-20-02; 8:45 am]

BILLING CODE 7515-01-P